DEPARTMENT OF THE INTERIOR

Bureau of Land Management

[LLNVS01000 L5105.0000.EA0000 LVRCF1906920 241A 19X] MO# 4500136313]

Notice of Temporary Closure of Public Land in Clark County, NV

AGENCY: Bureau of Land Management, Interior.

ACTION: Notice of temporary closure.

SUMMARY: The Bureau of Land Management (BLM) Las Vegas Field Office announces the temporary closure of certain public lands under its administration in Clark County, NV. This temporary closure is being made in the interest of public safety in relation to the authorized 2019 Rise Lantern Festival. This temporary closure controls access to multiple points of entry to the festival located on the Jean Dry Lake Bed in order to minimize the risk of vehicle collisions with festival participants and workers. The temporary closure also ensures adequate time to conduct clean-up of the festival location.

DATES: The temporary closure takes effect at 12:01 a.m. on October 4, 2019 and remains in effect until 11:59 p.m. on October 6, 2019.

ADDRESSES: The temporary closure order and map of the closure area will be posted at the BLM Las Vegas Field Office, 4701 North Torrey Pines Drive, Las Vegas, Nevada 89130 and on the BLM website: www.blm.gov. These materials will also be posted at the access point of Jean Dry Lake Bed and the surrounding areas.

FOR FURTHER INFORMATION CONTACT: Kenny Kendrick, Acting Supervisory Resource Management Specialist, by phone at 702-515-5073 or by email at kkendrick@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM Las Vegas Field Office announces the temporary closure of selected public lands under its administration. This action is being taken to help ensure public safety and prevent unnecessary environmental degradation during the official Special Recreation Permit for the 2019 Rise Lantern Festival.

The public lands affected by this closure are described as follows:

Mount Diablo Meridian, Nevada

T. 24 S, R. 60 E,

Secs 20 and 21, that portion lying easterly and southerly of the easterly and southerly right-of-way boundary of State Route 604;

Sec. 22;

Secs. 27 and 28;

Sec. 29, and 32 that portion lying easterly and southerly of the easterly and southerly right-of-way boundary of State Route 604;

Secs. 33, and 34.

T. 25 S, R. 60 E,

Sec. 2, W½;

Secs. 3 thru 5;

Secs. 8 thru 10; Sec. 11, W½;

Sec. 14, W½;

Secs. 15 thru 17.

Roads leading into the public lands under the temporary closure will be posted to notify the public of the temporary closure. The temporary closure area includes the Jean Dry Lake Bed and is bordered by Hidden Valley to the east, Sheep Mountain to the southwest, and the right-of-way boundary of State Route 604. Under the authority of Section 303(a) of the Federal Lands Policy and Management Act of 1976 (43 U.S.C. 1733(a)), 43 CFR 8360.0-7 and 43 CFR 8364.1, the BLM will enforce the following rules in the area described above:

The entire area as listed in the legal description above is closed to all vehicles and personnel except Law Enforcement, Emergency Vehicles, event personnel, and ticketed festival participants. Access routes leading to the closed area are closed to vehicles. No vehicle stopping or parking in the closed area except for designated parking areas will be permitted. Festival participants are required to remain within designated spectator areas only.

The following restrictions will be in effect for the duration of the temporary closure to ensure public safety of festival participants. Unless otherwise authorized, the following activities within the closure area are prohibited:

• Camping.

• Possession and/or consumption of any alcoholic beverage unless the person has reached the age of 21 years.

• Discharge or use of firearms or other weapons.

• Possession and/or discharge of fireworks.

• Allowing any pet or other animal in their care to be unrestrained at any time. Animals must be on a leash or other restraint no longer than 3 feet.

• Operation of any vehicle including any off-highway vehicle (OHV) and/or Golf Cart within the closure area, except along designated event routes to and from entrance/exit points and parking areas; or designated event vehicles and official vehicles.

• Parking any vehicle in violation of posted restrictions, or in such a manner as to obstruct or impede normal or emergency traffic movement or the parking of other vehicles, creating a safety hazard, or endangering any person, property or feature. Vehicles so parked are subject to citation, removal and impoundment at the owner's expense.

• Operating a vehicle through, around or beyond a restrictive sign, recognizable barricade, fence or traffic control barrier or device.

Signs and maps directing the public to designated spectator areas will be provided by the event sponsor.

Exceptions: Temporary closure restrictions do not apply to activities conducted under contract with the BLM, agency personnel monitoring the event, or activities conducted under an approved plan of operation. Authorized users must have in their possession a written permit or contract from BLM signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8360.0-7 and 8364.1.

Shonna Dooman,
Field Manager—Las Vegas Field Office.

[FR Doc. 2019-21550 Filed 10-2-19; 8:45 am]

BILLING CODE 4310-HC-P